DEPARTMENT OF COMMERCE

International Trade Administration

A-570-822

Certain Helical Spring Lock Washers from the People's Republic of China: Final Results of Antidumping Duty Administrative Review

AGENCY: Import Administration, International Trade Administration, Department of Commerce.

EFFECTIVE DATE: May 17, 2005.

SUMMARY: On November 9, 2004, the Department of Commerce (the Department) published in the Federal Register the preliminary results of the administrative review of the antidumping duty order on certain helical spring lock washers (HSLWs) from the People's Republic of China (the PRC). We gave interested parties an opportunity to comment on the preliminary results. Based upon our analysis of the comments and information received, we made changes to the dumping margin calculations for the final results. We find that certain HSLWs from the PRC were not being sold in the United States below normal value by Hangzhou Spring Washer Co., Ltd. (Hangzhou) during the period October 1, 2002, through September 30, 2003.

FOR FURTHER INFORMATION CONTACT: Marin Weaver at (202) 482-2336 or Cathy Feig at (202) 482-3962; AD/CVD Operations, Office 8, Import Administration, International Trade Administration, U.S. Department of Commerce, 14th Street and Constitution Avenue, NW, Washington, DC 20230.

SUPPLEMENTARY INFORMATION:

Case History

The preliminary results in this administrative review were published on November 9, 2004. See Certain Helical Spring Lock Washers from the PRC; Preliminary Results of Antidumping Duty Administrative Review, 69 FR 64903 (Preliminary Results). Since the Preliminary Results, the following events have occurred.

On December 10, 2004, Hangzhou submitted its case brief. Shakeproof Assembly Components Division of Illinois Tool Works, Inc. (Shakeproof), a domestic interested party, filed one “bracketing-not-final” copy of its case brief on December 10, 2004, and the final proprietary version on December 13, 2004. Both Shakeproof and Hangzhou submitted rebuttal briefs on December 17, 2004. On March 8, 2005, we extended the deadline for the final results of this review from March 9, 2005, to May 8, 2005. See Notice of Extension of Time Limit for the Final Results of Antidumping Duty Administrative Review: Certain Helical Spring Lock Washers from the People's Republic of China, 70 FR 11193 (March 8, 2005).

Scope of the Order

The products covered by the order are HSLWs of carbon steel, of carbon alloy steel, or of stainless steel, heat-treated or non-heat-treated, plated or non-plated, with ends that are off-line. HSLWs are designed to: (1) function as a spring to compensate for developed looseness between the component parts of a fastened assembly; (2) distribute the load over a larger area for screws or bolts; and (3) provide a hardened bearing surface. The scope does not include internal or external tooth washers, nor does it include spring lock washers made of other metals, such as copper.

HSLWs subject to the order are currently classifiable under subheading 7318.21.0030 of the Harmonized Tariff Schedule of the United States (HTSUS). Although the HTSUS subheading is provided for convenience and customs purposes, the written description of the scope of this proceeding is dispositive.

Analysis of Comments Received

All issues raised in the case and rebuttal briefs by parties to this proceeding and to which we have responded are listed in the Appendix to this notice and addressed in the Issues and Decision Memorandum, which is hereby adopted by this notice. Parties can find a complete discussion of the issues raised in this administrative review and the corresponding recommendations in this public memorandum which is on file in the Central Records Unit (CRU), room B-099 of the main Department building. In addition, a complete version of the Issues and Decision Memorandum can be accessed directly on the internet at http://ia.ita.doc.gov/fm. The paper copy and electronic version of the Issues and Decision Memorandum are identical in content.

Price Comparisons

We calculated export price and normal value based on the same methodology used in the Preliminary Results with the following exceptions: We calculated the surrogate financial ratios using the 2003 Reserve Bank of India (RBI) Bulletin instead of the 1997 RBI Bulletin. Additionally, we did not apply overhead to the plating costs and we have calculated brokerage and handling on a per-piece basis instead of a per-kilogram basis. Finally, we corrected our calculation of distances from the suppliers for each applicable input. See the accompanying Issues and Decision Memorandum and the Final Results Calculation Memorandum for Hangzhou Spring Washer Co., Ltd., dated May 9, 2005, for a full discussion of the issues and application of the changes.

Final Results of Review

The weighted-average dumping margin for the POR is as follows:

Manufacturer/exporter | Margin (percent)
Hangzhou Spring Washer Co., Ltd. | 0.00

Assessment Rates

In accordance with 19 CFR 351.212(b)(1), we have calculated importer (or customer)-specific assessment rates for the merchandise subject to this review. To determine whether the duty assessment rates were de minimis, in accordance with the requirement set forth in 19 CFR 351.106(c), we calculated importer (or customer)-specific ad valorem rates by aggregating the dumping margins calculated for all U.S. sales to that importer (or customer) and dividing this amount by the total entered value of the sales to that importer (or customer). Where an importer (or customer)-specific ad valorem rate was greater than de minimis, we will direct U.S. Customs and Border Protection (CBP) to apply the ad valorem assessment rates against the entered value of each of the importer's (or customer's) entries during the review period. Where an importer (or customer) -specific ad valorem rate was de minimis, we will instruct CBP to liquidate without regard to antidumping duties.

All other entries of the subject merchandise during the POR will be liquidated at the antidumping duty rate in place at the time of entry. The Department will issue appropriate assessment instructions directly to CBP within 15 days of publication of these final results of review.

Cash Deposit Requirements

The following cash deposit rates will be effective upon publication of these final results for all shipments of HSLWs from the PRC entered, or withdrawn from warehouse, for consumption on or after the publication date of this notice, as provided for by section 751(a)(1) of the Tariff Act of 1930, as amended (the Act): (1) the cash deposit rate for Hangzhou will be zero; (2) for a company previously found to be entitled to a separate rate and for which no review was requested, the cash deposit rate will be the rate established in the most recent review of that company; (3) for all other PRC exporters of subject merchandise, the rate will be the PRC country-wide rate of 128.63 percent, which is the “All Other PRC Manufacturers, Producers and Exporters” rate from the Final Determination of Sales at Less Than Fair Value: Certain Helical Spring Lock Washers from the PRC, 58 FR 48833 (September 20, 1993); and (4) for non-PRC exporters of subject merchandise from the PRC, the cash deposit rate will be the rate applicable to the PRC exporter that supplied that exporter. These deposit rates shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and notice in accordance with sections 751(a) and 777(i) of the Act.

Date: May 9, 2005.
Joseph A Spetrini,
Acting Assistant Secretary for Import Administration.

Appendix I--Decision Memorandum

Comment 1: Use of Steel Wire Rod from the United Kingdom

Comment 2: Plating Factor vs. Plating Services

Comment 3: Labor Rate

Comment 4: Offsetting for Negative Margins

Comment 5: By-Product Offset

Comment 6: Calculation of Brokerage and Handling Cost

Comment 7: Steel Wire Rod Inputs

Comment 8: Financial Ratios

Comment 9: Valuation of Steel Scrap

Comment 10: Hydrochloric Acid

Comment 11: Joint Venture

Comment 12: Application of Overhead to COM

[FR Doc. E5-2465 Filed 5-16-05; 8:45 am]

BILLING CODE 3510-DS-S